DEPARTMENT OF HEALTH AND HUMAN SERVICES

National Institutes of Health

First-Generation Guidelines for NCI-Supported Biorepositories

AGENCY: National Institutes of Health (NIH), National Cancer Institute (NCI), HHS.

ACTION: Notice.

SUMMARY: The public comment period for the First Generation Guidelines for NCI-Supported Biorepositories (Federal Register, Vol. 71, Number 82, Page 25814, April 28, 2006) will be extended an additional 30 days beyond publication of this notice.

DATES: Effective Date: July 3, 2006.

FOR FURTHER INFORMATION CONTACT: Implementation assistance and inquiries should be directed to senior staff of the relevant NCI Extramural and Intramural Program offices.

ADDRESSES: Written comments should be sent to: First-Generation Guidelines, Office of Biorepositories and Biospecimen Research, Office of the Deputy Director for Advanced Technologies and Strategic Partnerships, National Cancer Institute, National Institutes of Health, 31 Center Drive, Room 10A03, Bethesda, MD 20892. Comments submitted via e-mail should use biospecimen@mail.nih.gov and enter “First-Generation Guidelines Comment” in the subject line.

SUPPLEMENTARY INFORMATION: In order to have adequate time to review and comment on these Guidelines, several individuals and organizations have requested an extension of the 30-day public comment period, scheduled to end May 30, 2006. The NCI agrees that, due to the amount of time that it will take for many organizations to review the Guidelines and draft through responses, an extension of the 30-day comment period is warranted. Therefore the public comment period will be extended an additional 30 days beyond the publication date of this notice. After the comment period has closed, any comments received will be considered in a timely manner by the NCI Office of Biorepositories and Biospecimen Research and appropriate changes will be made and the final guidelines will be published and voluntarily in effect. After the effective date of publication of the final guidelines, written comments will continue to be accepted for the first year of implementation and can be sent to: First-Generation Guidelines, Office of Biorepositories and Biospecimen Research, Office of the Deputy Director for Advanced Technologies and Strategic Partnerships, National Cancer Institute, National Institutes of Health, 31 Center Drive, Room 10A03, Bethesda, MD 20892. Comments submitted via e-mail should use biospecimen@mail.nih.gov and enter “First-Generation Guidelines Comment” in the subject line. During the first year of implementation, the NCI will review any additional comments and experience with the guidelines to evaluate a possible need for future guidelines modification.

Dated: May 25, 2006.
John Niederhuber,
Deputy Director, National Center Institute, Deputy Director for Translational & Clinical Sciences.

[FR Doc. 06-5059 Filed 6-1-06; 8:45 am]

BILLING CODE 4140-01-M